DEPARTMENT OF LABOR

Employment and Training Administration

[TA-W-63,508]

Bedford Logistics, Inc., Bedford, IN; Notice of Termination of Investigation

Pursuant to Section 221 of the Trade Act of 1974, as amended, an investigation was initiated on June 9, 2008 in response to a worker petition filed on behalf of workers of Bedford Logistics, Inc., Bedford, Indiana.

The petitioning group of workers is covered by an active certification (TA-W-62,626) which expires on February 27, 2010. Consequently, further investigation in this case would serve no purpose, and the investigation has been terminated.

Signed at Washington, DC, this 24th day of June 2008.
Elliott S. Kushner,
Certifying Officer, Division of Trade Adjustment Assistance.

[FR Doc. E8-15344 Filed 7-7-08; 8:45 am]

BILLING CODE 4510-FN-P